DEPARTMENT OF THE INTERIOR

Bureau of Land Management

[LLCA930000-1430; CACA 007678]

Public Land Order No. 7826; Partial Revocation of Executive Orders Dated June 8, 1866, and September 10, 1902; California

AGENCY: Bureau of Land Management, Interior.

ACTION: Public land order.

SUMMARY: This order partially revokes approximately 12.97 acres of a withdrawal created by two Executive Orders that reserved land at Trinidad Head for use by the United States Coast Guard for lighthouse purposes. The United States Coast Guard no longer needs the reservation on this portion of land. This order returns administrative jurisdiction over this land back to the Bureau of Land Management (BLM).

DATE: Effective Date: July 11, 2014.

FOR FURTHER INFORMATION CONTACT: Elizabeth Easley, BLM California State Office, 2800 Cottage Way, Sacramento, CA 95825, 916-978-4673. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The United States Coast Guard has determined that 12.97 acres of land withdrawn for the Trinidad Head Light Station in Humboldt County, California, is no longer needed for lighthouse purposes and the BLM has determined that the lands are suitable for return to the public domain. The United States Coast Guard will retain 1.08 acres of the original reservation which it continues to use for communication site purposes related to navigation.

Order

By virtue of the authority vested in the Secretary of the Interior by Section 204 of the Federal Land Policy and Management Act of 1976, 43 U.S.C. 1714, it is ordered as follows:

1. The withdrawal created by two Executive Orders dated June 8, 1866, and September 10, 1902, which reserved public land at Trinidad Head for lighthouse purposes, is hereby revoked insofar as it affects the following described land:

Humboldt Meridian

T. 8 N., R. 1 W.,

Sec. 26, lot 6.

The land described contains 12.97 acres Humboldt County.

2. At 8:30 a.m. on August 11, 2014, the land described in Paragraph 1 shall be opened to appropriation under the general land laws, except location and entry under the United States mining laws, subject to valid existing rights, the provisions of existing withdrawals, other segregations of record, and the requirements of applicable law.

Dated: June 18, 2014.
Janice M. Schneider,
Assistant Secretary—Land and Minerals Management.

[FR Doc. 2014-16229 Filed 7-10-14; 8:45 am]

BILLING CODE 4310-40-P